DEPARTMENT OF THE INTERIOR

Fish and Wildlife Service

Lake Andes National Wildlife Refuge Complex, South Dakota

AGENCY: Fish and Wildlife Service, Interior.

ACTION: Notice of intent to prepare comprehensive conservation plan and environmental assessment; request for comments.

SUMMARY: This notice advises that the U.S. Fish and Wildlife Service (Service) intends to gather information necessary to prepare a comprehensive conservation plan (CCP) and associated environmental documents for the Lake Andes National Wildlife Refuge Complex (Complex), South Dakota.

The Service is furnishing this notice in compliance with Service CCP policy to advise other agencies and the public of its intentions and to obtain suggestions and information on the scope of issues to be considered in the planning process.

DATES: Written comments should be received by June 14, 2007.

ADDRESSES: Comments and requests for more information regarding the Complex should be sent to Bernardo Garza, Planning Team Leader, Division of Refuge Planning, 134 Union Boulevard, Suite 300, Lakewood, CO 80228.

FOR FURTHER INFORMATION CONTACT: Bernardo Garza, 303-236-4377, or John F. Esperance, 303-236-4369.

SUPPLEMENTARY INFORMATION: The Service has initiated the CCP for the Complex with headquarters in Lake Andes, South Dakota.

Each unit of the National Wildlife Refuge System, including this Complex, has specific purposes for which it was established. Those purposes are used to develop and prioritize management goals and objectives within the National Wildlife Refuge System mission and to guide which public uses will occur on the Complex. The planning process is a way for the Service and the public to evaluate management goals and objectives for the best possible conservation efforts of this important wildlife habitat, while providing for wildlife-dependent recreation opportunities that are compatible with each national wildlife refuge and wetland management district's establishing purposes and the mission of the National Wildlife Refuge System.

The Complex is made up of three separate entities: Lake Andes National Wildlife Refuge (NWR), Lake Andes Wetland Management District (WMD), and Karl E. Mundt NWR. Lake Andes NWR was established in 1936 to preserve an important piece of habitat for waterfowl and other water birds. The Lake Andes WMD was formed in the 1960s to protect wetland and grassland habitat that is critical to our nation's duck population. In 1967, the Service identified an area that was supporting almost 300 endangered bald eagles each winter; this area became the Karl E. Mundt NWR. Hunting and wildlife observation are the two most prevalent public uses on the Complex.

The Service will conduct a comprehensive conservation planning process that will provide opportunity for Tribal, State, and local governments; agencies; organizations; and the public to participate in issue scoping and public comment. The Service is requesting input for issues, concerns, ideas, and suggestions for the future management of the Complex. Anyone interested in providing input is invited to respond to the following questions.

(1) What problems or issues do you want to see addressed in the CCP?

(2) What improvements would you recommend for the Complex?

The Service has provided the above questions for your optional use; you are not required to provide information to the Service. The planning team developed these questions to facilitate finding out more information about individual issues and ideas concerning these three units of the National Wildlife Refuge System. Comments received by the planning team will be used as part of the planning process; individual comments will not be referenced in our reports or responded to directly.

An opportunity will be given to the public to provide input at open houses to scope issues and concerns (schedules can be obtained from the planning team leader at the above address). Comments may also be submitted anytime during the planning process by writing to the above address. All information provided voluntarily by mail, phone, or at public meetings becomes part of the official public record (i.e., names, addresses, letters of comment, input recorded during meetings). If requested under the Freedom of Information Act by a private citizen or organization, the Service may provide informational copies.

The environmental review of this project will be conducted in accordance with the requirements of the National Environmental Policy Act (NEPA) of 1969, as amended (42 U.S.C. 4321 et seq.); NEPA Regulations (40 CFR parts 1500-1508); other appropriate Federal laws and regulations; and Service policies and procedures for compliance with those regulations. All comments received from individuals on Service Environmental Assessments and Environmental Impact Statements become part of the official public record. Requests for such comments will be handled in accordance with the Freedom of Information Act, NEPA (40 CFR 1506.6(f)), and other Departmental and Service policies and procedures.

Dated: September 19, 2006.
James J. Slack,
Deputy Regional Director, Region 6, Denver, Colorado.

Editorial Note: This document was received at the Office of the Federal Register on May 10, 2007.

[FR Doc. E7-9278 Filed 5-14-07; 8:45 am]

BILLING CODE 4310-55-P